ENVIRONMENTAL PROTECTION AGENCY

[FRL-9713-7; CERCLA-04-2012-3775]

American Drum and Pallet Company Site; Memphis, Shelby County, Tennessee; Notice of settlement

AGENCY: Environmental Protection Agency.

ACTION: Notice of settlement.

SUMMARY: Under the Comprehensive Environmental Response, Compensation and Liability Act (CERCLA), the United States Environmental Protection Agency has entered into a settlement for past response costs concerning the American Drum and Pallet Company Superfund Site located in Memphis, Shelby County, Tennessee.

DATES: The Agency will consider public comments on the settlement until September 10, 2012. The Agency will consider all comments received and may modify or withdraw its consent to the settlement if comments received disclose facts or considerations which indicate that the settlement is inappropriate, improper, or inadequate.

ADDRESSES: Copies of the settlement are available from Ms. Paula V. Painter. Submit your comments by Site name American Drum and Pallet Company Site by one of the following methods:

• www.epa.gov/region4/superfund/programs/enforcement/enforcement.html.

• Email. Painter.Paula@epa.gov.

FOR FURTHER INFORMATION CONTACT: Paula V. Painter at (404) 562-8887.

Dated: July 13, 2012.
Anita L. Davis,
Chief, Superfund Enforcement & Information Management Branch, Superfund Division, Region 4.

[FR Doc. 2012-19425 Filed 8-9-12; 8:45 am]

BILLING CODE 6560-50-P